DEPARTMENT OF TRANSPORTATION

National Highway Traffic Safety Administration

49 CFR Part 571

[Docket No. NHTSA-2006-24980]

RIN 2127-AI66

Federal Motor Vehicle Safety Standards; Child Restraint Systems

AGENCY: National Highway Traffic Safety Administration (NHTSA), Department of Transportation (DOT).

ACTION: Final rule.

SUMMARY: This final rule establishes breaking strength requirements for child restraint webbing. Under today's final rule, new webbing that attaches a restraint to a vehicle is required to have a minimum breaking strength of 15,000 N. New restraint webbing used to restrain a child in a restraint is required to have a minimum breaking strength of 11,000 N. Today's final rule maintains the percent-of-strength requirements for webbing after it is exposed to specific environmental conditions that have been required under the child restraint system standard. Today's final rule also clarifies the weights used in the webbing abrasion test procedure. The requirements of this final rule increase the likelihood that the webbing of child restraint systems will sufficiently perform throughout the life of a child restraint.

DATES: The effective date of this final rule (i.e., the date that the rule amends the Code of Federal Regulations) is August 7, 2006. The compliance date of this rule is September 1, 2007 (all child restraints manufactured on or after this date must meet the requirements of this final rule).

Petitions for reconsideration must be received not later than July 24, 2006.

ADDRESSES: Petitions must be submitted to: Administrator, 400 Seventh Street, SW., Washington, DC 20590.

FOR FURTHER INFORMATION CONTACT: For technical issues, you may contact Mr. Tewabe Asebe, Office of Rulemaking (Telephone: 202-366-2365) (Fax: 202-366-7002). For legal issues, you may contact Mr. Chris Calamita, Office of Chief Counsel (Telephone: 202-366-2992) (Fax: 202-366-3820). You may send mail to these officials at the National Highway Traffic Safety Administration, 400 Seventh Street, SW., Washington, DC 20590.

SUPPLEMENTARY INFORMATION:

Table of Contents

I. Strength Requirements

a. Background and the NPRM

b. Summary of Public Comments

c. Response to the Comments

1. What should be the minimum strength requirements for new webbing?

i. Are the proposed limits too low?

ii. Are the proposed limits too high?

2. Need to retain percent-of-strength requirement for exposed webbing

3. Artifacts of component testing of webbing

d. Conclusions

II. Weight Used to Abrade

III. Compliance Date

IV. Rulemaking Analyses and Notices

I. Strength Requirements

a. Background and the NPRM

Federal Motor Vehicle Safety Standard (FMVSS) No. 213, Child restraint systems, regulates child restraint systems used in motor vehicles and aircraft (49 CFR 571.213). Among other things, this standard specifies requirements for the webbing material used in child restraint systems, including requirements for the strength of the webbing after the webbing is subjected to abrasion (S5.4.1(a)), light exposure (S5.4.1(b)), and micro-organisms (S5.4.1(b)).¹ These specified conditions simulate the conditions that webbing will likely encounter through normal use. Evaluating the performance of the webbing after subjecting the webbing to those conditions better ensures the long-term integrity of the webbing.

¹ S5.4.1(a) and (b) reference FMVSS No. 209, 49 CFR 571.209, Seat belt assemblies, which specifies requirements and the associated test procedures for seat belt assemblies.

Each of the requirements for exposed webbing is expressed in the form of a percent-of-strength of the webbing measured before exposure. S5.4.1(a) specifies that, after being subjected to abrasion as specified in certain sections of FMVSS No. 209, the webbing must have a breaking strength of not less than 75 percent of the strength of the unabraded webbing. S5.4.1(b) of FMVSS No. 213, referring to S4.2(e) in FMVSS No. 209, specifies that after being exposed to light, the webbing shall have a breaking strength of not less than 60 percent of the strength before exposure. The same section of FMVSS No. 213 also refers to S4.2(f) of FMVSS No. 209, which specifies that after being exposed to micro-organisms, the webbing shall have a breaking strength of not less than 85 percent of the strength before exposure to micro-organisms.

However, FMVSS No. 213 does not currently specify a minimum breaking strength for new webbing against which the percentages would be measured. Addressing this aspect of the standard, on June 30, 2005, we published the notice of proposed rulemaking (NPRM)(70 FR 37731; Docket No. NHTSA-2005-21243) preceding this final rule. In the NPRM, we expressed concern that because there is no specified minimum breaking strength for new webbing, manufacturers could use webbing of inferior strength to meet the standard's requirements. The exposed webbing might have a breaking strength that is within the specified percentage of the strength of the new webbing, but the webbing might not have an absolute strength high enough to provide a margin of safety for use throughout the life of a child restraint.

The NPRM sought to achieve three goals (70 FR at 37732). First was to specify a minimum breaking strength for unabraded webbing or webbing that has not been exposed to light or micro-organisms (hereinafter referred to as “new webbing”), to address the concern about a lack of a minimum breaking strength requirement for new webbing. Second was to affirm that a purpose of S5.4.1(a) and (b) of FMVSS No. 213 was to limit the degradation rate of the webbing. We stated that limiting degradation was done by having a minimum breaking strength requirement that applies to webbing that has been exposed to mechanical or environmental conditions in the test laboratory that accelerate the aging of the webbing. (Webbing that has been abraded or exposed to the accelerated conditions is referred to as “exposed webbing.”) We tentatively concluded that specifying minimum breaking strength requirements for new and exposed webbing would eliminate the need for the current percent-of-strength degradation requirements. Third was to clarify the weight used in the abrasion test to abrade the webbing used to attach child restraint systems to the child restraint anchorages located in a vehicle.

Table 1, below, summarizes the NPRM's proposed minimum breaking strength requirements for new and exposed webbing: (a) Used to attach the child restraint system to the vehicle (hereinafter “tether webbing”) ², and (b) used to restrain the child in the child restraint (hereinafter “harness webbing”). We proposed a more stringent requirement for tether webbing because tether webbing secures the mass of a child restraint and child, whereas harness webbing is limited to securing the mass of a child occupant.

² As used in this preamble, the term “tether webbing” includes webbing used to attach a child restraint to all three anchorages of a LATCH system.

The agency explained in the NPRM (70 FR at 37734) that the 15,000 N value for new tether webbing was based on a calculation of the loads imposed by the mass of a child and child restraint together, and on a consideration of the breaking strength previously required for seat belt assembly restraints for persons not weighing more than 50 pounds (Type 3 seat belt assemblies) ³ (70 FR at 37734). Type 3 webbing was required to meet a breaking strength in the range of approximately 13,000-18,000 N, depending on the number of webbing connections to attachment hardware. The agency believed that a 15,000 N requirement has a margin of safety above the minimum 13,000 N lower limit previously established for Type 3 webbing. We also noted that of 20 child restraint systems tested, 17 had tether webbing with a breaking strength of 15,000 N or greater, indicating that a 15,000 N requirement would be feasible. We further stated that we are unaware of real-world data that would indicate the presence of a safety problem associated with the strength levels of current webbing.

³ As explained in the NPRM (70 FR 37732), prior to 1979 FMVSS No. 209, Seat belt assemblies, had requirements for Type 3 seat belts. In December 1979, the Type 3 requirements were removed from FMVSS No. 209 and incorporated into an updated FMVSS No. 213 (44 FR 72131).

The NPRM proposed a minimum breaking strength of 11,000 N for new harness webbing. The 11,000 N proposal was based in part on the breaking strength requirements for Type 3 belt assemblies prior to 1979, which ranged from 1,500 pounds (6,670 N) for webbing in pelvic and upper torso restrains to 4,000 pounds ( 17,793 N) for webbing in seat back retainers. The proposal was also based on a consideration of compliance data for 109 child restraint systems collected from 2000-2002. Ninety-two percent (100 out of 109) of the harness webbing had a breaking strength above 11,000 N. Given also that there have been no real-world reports of harness webbing failures, the agency tentatively determined that the proposed requirement was reasonable.

The NPRM proposed to require tether and harness webbing to meet minimum strength requirements after abrasion, exposure to light, and exposure to micro-organisms, the same test conditions to which child restraint webbing is currently exposed. Currently in FMVSS No. 213, each of the post-exposure strength requirements is calculated from percentages of the strength of the original (new) webbing. The NPRM proposed not changing the percentages now used to calculate the post-exposure strength requirements (75 percent—abrasion, 60 percent—exposure to light, and 85 percent—exposure to micro-organisms). The proposed minimum strength requirements for the exposed webbing were calculated using those percentages, which were determined by the Society of Automotive Engineers (SAE) and incorporated into SAE Standard SAE J4c, Motor Vehicle Seat Belt Assemblies. The agency incorporated the SAE percentages and procedures into FMVSS No. 209 and FMVSS No. 213.

Table 1.—Proposed Breaking Strength Requirements
Type of webbing | Type of exposure | Proposed breaking strength requirement
New tether webbing |  | 15,000 N.
Exposed tether webbing | Abrasion | 11,200 N.
| Exposure to light | 9,000 N.
| Exposure to micro-organisms | 12,700 N.
New harness webbing |  | 11,000 N.
Exposed harness webbing | Abrasion | 8,200 N.
| Exposure to light | 6,600 N.
| Exposure to micro-organisms | 9,300 N.

b. Summary of Public Comments

In response to the NPRM, the agency received comments from Advocates for Highway and Auto Safety (Advocates), a consumer group, and Britax Child Safety, Inc. (Britax), a child restraint manufacturer. Both commenters generally supported the establishment of minimum breaking strength requirements for child restraint system webbing, but Advocates believed that a 15,000 N requirement for new tether webbing may be too low, while Britax questioned whether a 15,000 N requirement was too high.⁴ The comments generally centered on: (a) What the strength requirements should be; and (b) artifacts of component testing of webbing.

⁴ No commenter directly addressed the proposal for a 11,000 N strength requirement for new harness webbing.

c. Response to the Comments

1. What should be the minimum strength requirements for new webbing?

The NPRM proposed that the minimum breaking strength should be 15,000 N for new tether webbing and 11,000 N for new harness webbing.

i. Are the proposed limits too low?

A. In its comments to the NPRM, Advocates supported establishing specific strength requirements, but questioned whether a 15,000 N requirement would be sufficient. Advocates suggested that the agency consider the breaking strength requirements of FMVSS No. 209, “Seat belt assemblies,” because the tether webbing attaches child restraints to a vehicle and takes the place of the vehicle's belts in fulfilling this function. Advocates recommended that the minimum breaking strength for new tether webbing should be 22,241 N, the breaking strength requirement for the lap belt portion of a lap/shoulder seat belt (Type 2 seat belt) under FMVSS No. 209.

Response: The agency believes that a 15,000 N requirement is sufficient. The requirement is based on an analysis of the force generated by a 50 pound (lb) child that is secured in a 15-lb child restraint system (the average weight of a toddler restraint) in a 48 kilometer per hour (km/h) (30 mile per hour (mph)) crash. As explained in the NPRM, the resulting dynamic force from such a crash is less than 15,000 N. There are child restraints for children weighing more than 50 lb, but those restraints are typically booster seats which do not use webbing to attach the child restraint to the vehicle.

We disagree that there is a safety need to adopt FMVSS No. 209 webbing strength requirements. FMVSS No. 209 establishes requirements for vehicle seat belts to ensure that seat belt assemblies are suitable for restraining occupants as large as a 95th percentile male (223 lb). Child restraint system webbing does not need to be as strong, since the loads generated in that application are much less.

B. Advocates stated in its arguments that the minimum breaking strengths for exposed webbing should at least be comparable to the LATCH ⁵ anchorage strength requirements. Advocates stated that such a requirement would ensure that the webbing provided adequate strength for the life of a child restraint, and that the webbing would not be a “weak link” in the LATCH system, i.e., webbing would not fail at force levels lower than those that would result in a failure of the LATCH anchorages.

⁵ “LATCH” stands for “Lower Anchors and Tethers for Children,” a term that was developed by manufacturers and retailers to refer to the standardized child restraint anchorage system required by FMVSS No. 225, “Child restraint anchorage systems.” This preamble uses the term to describe either an FMVSS No. 225 anchorage system in a vehicle or a child restraint that attaches to an FMVSS No. 225 child restraint anchorage system. Child restraints have been required by FMVSS No. 213 to have components enabling attachment to the lower anchors of a vehicle's LATCH system since September 1, 2002. Child restraints have had top tethers that attach to the tether anchor of a LATCH system since 1999.

Response: The strength requirements established today are component requirements. Each webbing component must meet the requirement. The strength requirements for LATCH anchorages under FMVSS No. 225 apply to the anchorages when the system is tested, i.e. the anchorages must be able to endure a 15,000 N force applied to all three anchorages simultaneously, and a separate 11,000 N force applied to just the lower anchorages simultaneously. The minimum strength requirements for exposed webbing as tested on the component level are comparable to or more than the loads generated on the anchorages as a system in the test, ensuring an adequate margin of safety over the life time of a restraint while keeping the requirements within reason.

C. Advocates also suggested that webbing that secures a child restraint to the lower LATCH anchorage points should have a more stringent strength requirement than that for tether webbing which secures a child restraint to the upper LATCH anchorage. Advocates stated that the webbing associated with the lower anchorages will “bear the brunt of the forces exerted on the child restraint in the event of a crash.”

Response: S9.4 of FMVSS No. 225 requires that the lower anchorages withstand an 11,000 N force applied to both anchorages simultaneously. Today's final rule requires that the webbing have a minimum breaking strength of 15,000 N at the component level. Child restraint systems typically are secured to the LATCH attachments with more than one piece of webbing. The combined strength of the webbing attaching the child restraint to the lower LATCH anchors is sufficiently strong, provides an adequate margin of safety, and does not need to be increased.

D. In setting the proposed strength requirements for new webbing, NHTSA evaluated compliance data from the FMVSS No. 213 compliance program in 2000-2002. We determined that a certain portion of the tested webbing would pass a higher limit (17,000 N), and a certain portion would pass a lower limit (13,000 N) (70 FR at 37734). Advocates stated that the agency “should not be seeking to ‘grandfather’ a majority of current products. * * *”

Response: The agency's evaluation of compliance data was to demonstrate that the proposed requirements, and ultimately those adopted today, are feasible to achieve. Additionally, as stated in the NPRM, the agency wanted to point out that current webbing meeting a 15,000 N requirement has not been breaking in normal use. Advocates commented that this lack of data may be a result of the LATCH requirements being relatively new. The LATCH top tether anchorage has been used in the United States since 1999. Moreover, tethers have been used in Canada, which has comparable strength requirements to those adopted today, since the 1970's without an indication of an issue with webbing strength. Thus, for the reasons explained in the NPRM, we conclude that a 15,000 N strength requirement for new tether webbing meets the need for safety, improves the enforceability of the standard, and is practicable.

ii. Are the proposed limits too high?

A. Noting that the NPRM had discussed NHTSA's compliance test of a Britax tether webbing specimen that had an unabraded breaking strength of only 5,385 N, Britax stated that it has seen no real-world experiences related to webbing failures. Britax believed that the proposed webbing strength values are more stringent than necessary, and that overly stringent requirements for tether webbing may result in an increase in recorded injury criteria. Britax stated that excessive webbing strength may negatively affect other characteristics of webbing material such as elongation, and suggested that further evaluation by NHTSA and the industry is needed to determine the affect the proposed webbing strength requirements will have on dynamic performance.

Response: The lack of a minimum breaking strength requirement for new webbing prompted the agency to undertake this rulemaking. NHTSA was concerned that where there is no specified minimum breaking strength for new webbing, manufacturers could use webbing of inferior strength to meet the standard's requirements. Without a specified initial breaking strength requirement, the percentage-of-strength requirement alone did not provide an effective floor for acceptable performance. The exposed webbing might have a breaking strength that is within the specified percentage of the strength of the new webbing, but the webbing might not have an absolute strength high enough to provide a margin of safety for use throughout the life of a child restraint (70 FR at 37732). The agency also determined that a minimum strength requirement should be based on an analysis of the forces likely to be imposed on the webbing. Our calculation of those forces led us to determine that a 15,000 N requirement would be high enough to withstand such forces, and would be high enough such that exposed webbing could degrade in strength yet would maintain sufficient strength to perform as needed for as long as the restraint is used.

Related to its comment that its 5,385 N webbing is satisfactory, Britax stated that its webbing maintained in some cases up to 100 percent of the original webbing strength. Britax believed that the webbing maintains an acceptable strength following the specified testing and meets the agency's intent of the rulemaking. (Britax states, and we concur, that our intent “is to ensure that the webbing strength will as satisfactorily protect the life of the occupant at the end of the product life, as it did in the beginning.”) The agency concurs that keeping the current requirement that exposed webbing must retain a specified percentage of the original strength of the webbing is preferable to the approach proposed in the NPRM. This point is discussed in the next section. However, for the reasons given above, the agency believes that there should also be a component in FMVSS No. 213 that specifies the minimum strength of the new webbing. The 15,000 N and 11,000 N breaking strength requirements for new tether and harness webbing, respectively, serve a safety need and are reasonable.

Further, Britax did not provide any data to show that the minimum breaking strength adopted today is “excessive.” The compliance data relied upon by the agency in the NPRM demonstrated that current child restraint systems are equipped with webbing that exceeds the minimum requirements adopted today ⁶ while being compliant with all of the injury criteria requirements of FMVSS No. 213.

⁶ The mean breaking strength for new tether webbing was over 17,000 N (NHTSA Docket No. 2005-21243-2).

B. Advocates also raised a concern related to elongation of the webbing. The commenter recommended that the agency establish a requirement for the elongation characteristics of webbing, stating that elongation leads to fatigued material strength and can dramatically reduce webbing tensile strength during sudden dynamic loading.

Response: An elongation requirement would be outside of the scope of the NPRM. Moreover, the agency disagrees that there is a demonstrated need to establish elongation requirements for webbing at the component level. The effect of webbing elongation is already addressed in the excursion limit requirements in the dynamic testing specified in FMVSS No. 213. S5.1.3.1 of FMVSS No. 213 limits the amount of excursion that can be experienced by a test dummy's head and knees during a 48 km/h (30 mile per hour) crash test. As such, the requirements for child restraint systems, when tested dynamically, place practical limits on the elongation characteristics of webbing. Advocates did not provide any data to indicate that the elongation limitation inherent to the dynamic requirements of FMVSS No. 213 is insufficient.

2. Need to retain percent-of-strength requirement for exposed webbing

The NPRM proposed to establish minimum breaking strength requirements for exposed webbing. The minimum breaking strength requirements were calculated from the proposed strength requirements for new webbing, using the existing percent-of-strength requirements in the current rule. We proposed that abraded tether webbing would be required to have a minimum breaking strength of 11,200 N (which is 75 percent of 15,000 N), tether webbing exposed to the light degradation procedure would be required to have a breaking strength of 9,000 N (60 percent of 15,000 N), and tether webbing exposed to the micro-organism test procedure would be required to have a minimum breaking strength of 12,700 N (85 percent of 15,000 N). Comparable limits were proposed for exposed harness webbing.

A. Britax suggested that “As the agency only tests new child restraint systems, with the proposed webbing breaking strength there is a wider window of degradability that may create an adverse condition in the field not detectable by the agency.” Britax stated that “the wider the window of degradability, the increase on the risk of adverse affect [sic] on child safety. * * * The proposed rule potentially permits a greater percentage of degradation.” Britax suggested that the minimum strength requirements for exposed webbing “must reflect the degradation percentages.” As stated by Britax:

Under the proposed requirement, the minimum breaking strength of unabraded tether webbing is 15,000 N, 75% of which is 11,200 N—the minimum breaking strength of abraded tether webbing. As the proposed rule is written, the ‘minimum’ requirement allows the manufacturer to provide webbing with a higher breaking strength. Notwithstanding the potential result the higher breaking strength may have on the overall performance of the child restraint, the abraded webbing strength may be as low as 11,200 N, potential[ly] more than the 25% reduction in breaking strength now permitted under 49 CFR § 571.213 and 209.

Response: After considering Britax's comment, we conclude that the NPRM did not sufficiently limit the degradation rate of webbing material and thus did not adequately fulfill the second of the agency's goals for the rulemaking. The agency agrees with the commenter that exposed webbing should be required to maintain a minimum percentage of its strength as new webbing, as a means of limiting the degradation rate of the webbing. The rate of degradation is preferable to specifying an absolute minimum strength for exposed webbing because limiting a rate of degradation insures proper webbing material selection. An excessive degradation rate (e.g., over 25% when subjected to the abrasion test) indicates a problem with the quality and/or durability of the selected material. Our review of general engineering literature indicates that specifying strength requirements by limiting degradation rates is standard industry practice for proper material selection.

The degradation rate will not be limited by having only a minimum breaking strength applying to new and exposed webbing. We believe that Britax is correct that the approach of the NPRM created a potential loophole whereby webbing that degraded in the laboratory tests more than 25 percent when abraded, 40 percent when exposed to light, or 15 percent when exposed to micro-organisms could be used in the manufacture of child restraints. We want to prevent the use of such webbing because it may not last as long as necessary to protect children using the restraint (including for second-hand restraint use).

The laboratory tests are accelerated aging tests which provide a snapshot of the webbing over prolonged exposure to environmental conditions. The tests are not intended to and do not assess how strong a particular tested specimen will be at the end of its life. The tests do not replicate the lifetime use of the webbing.⁷ If a child restraint webbing sample lost more than 25 percent of its strength when abraded in the test, the webbing will have abraded so much during that snapshot assessment that we question its ability to last the lifetime of the restraint,⁸ especially when exposed year after year to the cumulative effects of light, micro-organisms and other conditions. Thus, today's final rule maintains the current percent-of-strength requirements for exposed webbing. Exposed tether webbing must maintain 75 percent, 60 percent, and 85 percent of the new webbing strength when exposed to abrasion testing, light degradation testing, and micro-organism degradation testing, respectively.

⁷ “The primary purposes of laboratory tests are merely to save valuable time and to serve as controls in the manufacture of basic materials.” Plastics Engineering Handbook of the Society of the Plastics Industry, Inc., Third Ed., Van Nostrand Reinhold Company, 1960.

⁸ The same concerns apply to webbing that lost more than 40% or 15% of its strength after exposure to light and micro-organisms, respectively.

NHTSA emphasizes that as a result of retaining the percent-of-strength breaking strength requirements for exposed webbing, if new webbing has a breaking strength higher than the minimum required (15,000 N for new tether webbing or 11,000 N for new harness webbing), the exposed webbing breaking strengths must be higher than the minimum values listed for exposed webbing in proposed Table 1 of the NPRM (for the convenience of the reader, that table was set forth in this preamble, supra). Exceeding the degradation rates of the standard indicates a quality problem with the webbing material selection and raises concern that the webbing may not satisfactorily perform at the end of its product life as it did at the beginning, even if the exposed webbing has a breaking strength that is higher in magnitude than a competitor's webbing that met the percent-of-strength requirement.

B. The agency proposed specific minimum strength requirements for exposed harness webbing that were based on the percent-of-strength requirements of the current standard; i.e., 8,200 N (75 percent of 11,000 N) for abraded harness webbing, 6,600 N (60 percent of 11,000 N) for harness webbing exposed to light degradation, and 9,300 N (85 percent of 11,000 N) for harness webbing exposed to micro-organism degradation.

Today's final rule does not establish absolute minimum strength values for exposed harness webbing, but instead retains the percent-of-strength requirements of the current regulation. Again, as the webbing requirements apply at a component level, the minimums established today ensure that child restraint webbing will perform adequately and will continue to do so as it ages.

3. Artifacts of component testing of webbing

A. The webbing requirements adopted today apply to webbing at the component level, i.e., child restraint webbing must comply with the requirements when tested independently from the child restraint system. Britax wanted the agency to consider child restraint requirements in terms of the interaction of the restraint with a vehicle on a system level. The commenter was concerned that establishing minimum breaking strength requirements for multiple child restraint components would hinder a manufacturer's ability to “optimize” a design to maximize safety.

Response: Today's requirements apply to the component level to the same extent as currently required under the standard. The component requirements enable the agency to conduct accelerated aging tests. The breaking strength requirements ensure that the performance of webbing over the lifetime of a child restraint system is sufficient to provide the necessary protection. Requirements that apply to new child restraints only, such as the dynamic sled test conducted on the child restraint as a system, do not provide comparable assurances, particularly for components such as webbing that are likely to experience extraordinary “wear and tear” and exposure to elements that can degrade the webbing strength in the course of normal use.

B. With regard to the specific percent-of-strength requirements, Advocates asked why different exposure paths have different percent requirements.

Response: As explained in the NPRM, the percent-of-strength values and the corresponding test procedures were determined by the Society of Automotive Engineers (SAE) and incorporated into SAE standard SAE J4c, Motor Vehicle Seat Belt Assemblies. The agency incorporated the SAE percentages and procedures into FMVSS Nos. 209 and 213.

The differences in percentage degradation levels for abrasion, exposure to light, and exposure to micro-organisms are due to differences in the accelerated laboratory test procedures used to predict long-term exposure. That is, the degradation percentage requirements are dependant on the procedures for the individual tests. For example, the resistance-to-abrasion test specifies a 2,500 cycle procedure at a specific weight and cycle rate. The resistance-to-light test specifies 100 hours of exposure to carbon-arc light. The variations in the types of environmental tests the webbing is exposed to are reflected in the differences in the percent degradation requirements.

d. Conclusions

Today's final rule adopts the proposed minimum breaking strength requirements for new webbing, but does not adopt the proposal to specify minimum breaking strength requirements for exposed webbing. Instead, the final rule retains, for exposed webbing, the current percent-of-strength requirements. Under today's final rule, new tether webbing must have a minimum breaking strength of 15,000 N, and new harness webbing must have a minimum breaking strength of 11,000 N. For exposed webbing, rather than adopting specific strength requirements for the webbing, we are retaining the current percent-of-strength requirement. That is, exposed webbing, whether it is tether webbing or harness webbing, must maintain 75 percent, 60 percent, and 85 percent of the new webbing strength when exposed to abrasion testing, light degradation testing, and micro-organism degradation testing, respectively.

The requirements adopted today increase the likelihood that the webbing material of child restraints maintains its integrity for the lifetime of the restraint. The degradation rate of the webbing, as measured in the “snapshot” of the performance of the webbing obtained in the accelerated aging tests, indicates the quality of the material in withstanding long-term exposure. The ability of the webbing to maintain its integrity is especially important now that child restraints are required by FMVSS No. 213 to have components that attach to the LATCH system on vehicles. Child restraint manufacturers have predominately chosen to connect these components to the child restraint by use of webbing material. Requiring the webbing material to meet a minimum strength requirement when new, and not exceed a specified rate of degradation when exposed to environmental conditions, will better ensure that child restraints will be able to be securely attached to the vehicle in a crash, even when the restraint is passed down to second-hand users.

II. Weight Used to Abrade

S5.4.1(a) of FMVSS No. 213 requires that child restraint belt webbing must meet breaking strength requirements after being abraded pursuant to a procedure specified in S5.1(d) of FMVSS No. 209. S5.1(d)'s abrasion procedure requires that belt webbing be drawn across two edges of a hexagonal steel bar by an oscillating drum, with one end of the webbing sample attached to the drum and the other attached to a weight with a specified mass. Two different weights are specified:

One end of the webbing (A) shall be attached to a mass (B) of 2.35 [kilogram (kg)] ± .05 kg, except that a mass of 1.5 kg ± .05 kg shall be used for webbing in pelvic and upper torso restraints of a belt assembly used in a child restraint system.

A tether strap used to attach a child restraint to the vehicle is neither a pelvic nor upper torso restraint, and therefore does not fall within the exclusion allowing for use of the 1.5 kg mass. Thus, the 2.35 kg mass should be used to abrade tether webbing. To make the wording clearer, the NPRM proposed to amend S5.4.1 by adding a reference to the 2.35 kg mass as the mass used in the abrasion test to abrade webbing used to attach a child restraint to a vehicle's LATCH system (tether webbing). The agency wanted to clarify the language because it believed it was important that the 2.35 kg mass be used to abrade this webbing. The heavier weight should be used because installation and removal of the child seat exposes the webbing to greater potential for abrasion, and because the webbing used for the LATCH attachments must restrain the mass of both the child and the child restraint system.

No comments were received on this issue and the agency reiterates that the heavier mass should be used in the test of tether straps (i.e., any strap used to attach the child restraint to LATCH anchorages). However, as we were reviewing the proposed S5.4.1 regulatory text, we determined that the proposed language was in need of correction, as it was not equivalent to nor did it entirely clarify the language of S5.1(d) of FMVSS No. 209. We concluded that it was unnecessary to limit the text specifically to webbing used to secure a child restraint system to the LATCH anchorages, and that doing so could give rise to questions of interpretation about which weight to use for webbing that was neither used in pelvic and upper torso restraints of a child restraint belt assembly nor used to attach the restraint to a LATCH system. Accordingly, this final rule generally uses the language of S5.1(d) of FMVSS No. 209 in clarifying FMVSS No. 213 regarding the mass used to test the webbing of child restraints, but specifies that the heavier mass (2.35 kg) must be used for webbing including but not limited to webbing used to secure child restraint systems to LATCH anchorages and that the lighter mass (1.5 kg) shall be used for webbing in pelvic and upper torso restraints of a belt assembly used in a child restraint system.

III. Compliance Date

The compliance date of this rule is September 1, 2007 (all child restraints manufactured on or after this date must meet the requirements of this final rule). A majority of the child restraint systems surveyed for the NPRM would comply with the requirements adopted today. However, the agency is aware that manufacturers may purchase webbing for production of a child restraint model in advance of production. Today's final rule provides manufacturers with over a year of lead time, which should minimize the need for manufacturers to replace existing stock and will provide adequate time for manufacturers to secure compliant webbing for future production.

IV. Rulemaking Analyses and Notices

Executive Order 12866 and DOT Regulatory Policies and Procedures

NHTSA has considered the impact of this rulemaking action under E.O. 12866 and the Department of Transportation's regulatory policies and procedures. This rulemaking was not reviewed by the Office of Management and Budget. The rulemaking action is also not considered to be significant under the Department of Transportation's Regulatory Policies and Procedures (44 FR 11034, February 26, 1979).

The agency concludes that this rulemaking action will not have an annual effect on the economy of $100 million. The agency is establishing minimum breaking strength requirements for webbing used in child restraint systems. The agency estimates that most child restraint systems meet these requirements. NHTSA estimates that the cost of webbing material that meets the requirements adopted today is only about $.10 per foot. Thus, the impacts of this rulemaking are so minor so as not to warrant the preparation of a full regulatory evaluation.

Regulatory Flexibility Act

Pursuant to the Regulatory Flexibility Act (5 U.S.C. 601 et seq., as amended by the Small Business Regulatory Enforcement Fairness Act (SBREFA) of 1996), the agency must determine the impact of its proposal or final rule on small businesses. The Small Business Administration's regulations at 13 CFR Part 121 define a small business, in part, as a business entity “which operates primarily within the United States.” (13 CFR 121.105(a)). No regulatory flexibility analysis is required if the head of an agency certifies that the rule will not have a significant economic impact on a substantial number of small entities. SBREFA amended the Regulatory Flexibility Act to require Federal agencies to provide a statement of the factual basis for certifying that a rule will not have a significant economic impact on a substantial number of small entities.

NHTSA has considered the effects of this final rule under the Regulatory Flexibility Act. I certify that this rule would not have a significant economic impact on a substantial number of small entities. The rational for this certification is that most child restraint systems meet the requirements. For manufacturers producing child restraints that do not meet the minimum strength requirements, it will not be difficult for these manufacturers to obtain and use complying webbing on their child restraints. Further, the agency is providing more than a year for manufacturers that do not comply to obtain and incorporate compliant webbing.

National Environmental Policy Act

NHTSA has analyzed this rulemaking action for the purposes of the National Environmental Policy Act. The agency has determined that implementation of this rule will not have any significant impact on the quality of the human environment.

Executive Order 13132 (Federalism)

NHTSA has analyzed this rule in accordance with the principles and criteria set forth in Executive Order 13132 and has determined that the rule will not have sufficient Federalism implications to warrant consultation with State and local officials or the preparation of a federalism summary impact statement. The rule will not have any substantial effects on the States, the current Federal-State relationship, or the current distribution of power and responsibilities among the various local officials.

Civil Justice Reform (E.O. 12988)

Today's final rule will not have any retroactive effect. Under 49 U.S.C. 30103, whenever a Federal motor vehicle safety standard is in effect, a State may not adopt or maintain a safety standard applicable to the same aspect of performance which is not identical to the Federal standard, except to the extent that the State requirement imposes a higher level of performance and applies only to vehicles procured for the State's use. 49 U.S.C. 30161 sets forth a procedure for judicial review of final rules establishing, amending, or revoking Federal motor vehicle safety standards. That section does not require submission of a petition for reconsideration or other administrative proceedings before parties may file suit in court.

Paperwork Reduction Act

Under the Paperwork Reduction Act of 1995, a person is not required to respond to a collection of information by a Federal agency unless the collection displays a valid OMB control number. This rule does not require any collections of information as defined by the OMB in 5 CFR Part 1320.

National Technology Transfer and Advancement Act

Section 12(d) of the National Technology Transfer and Advancement Act of 1995 (NTTAA) directs NHTSA to use voluntary consensus standards in its regulatory activities unless doing so would be inconsistent with applicable law or otherwise impractical (Pub. L. 104-113, codified at 15 U.S.C. 272). Voluntary consensus standards are technical standards (e.g., materials specifications, test methods, sampling procedures, and business practices) that are developed or adopted by voluntary consensus standards bodies, such as the Society of Automotive Engineers (SAE). The NTTAA directs NHTSA to provide Congress, through the OMB, explanations when the agency decides not to use available and applicable voluntary consensus standards.

Today's final rule continues to rely on SAE J4c with regard to the exposed webbing requirements. There are no other relevant voluntary consensus standards available at this time. However, the agency will consider any such standards when they become available.

Unfunded Mandates Reform Act

Section 202 of the Unfunded Mandates Reform Act of 1995 (UMRA) requires Federal agencies to prepare a written assessment of the costs, benefits, and other effects of proposed or final rules that include a Federal mandate likely to result in the expenditure by State, local, or tribal governments, in the aggregate, or by the private sector, of more than $100 million in any one year (adjusted for inflation with a base year of 1995). Adjusting this amount by the gross domestic product price deflator for the year 2004 results in about $118 million (115.5 ÷ 98.11 × $100 million).

The agency has concluded that this rule will not result in the expenditure by State, local, or tribal governments, in the aggregate, or by the private sector, of more than $118 million annually. Accordingly, no Unfunded Mandates assessment has been prepared.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all submissions received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects in 49 CFR Part 571

Motor vehicle safety, Reporting and recordkeeping requirements, Tires.

In consideration of the foregoing, NHTSA amends 49 CFR part 571 as follows:

PART 571—[AMENDED]

1. The authority citation for part 571 continues to read as follows:

Authority: 49 U.S.C. 322, 30111, 30115, 30117, and 30166; delegation of authority at 49 CFR 1.50.

2. S5.4.1 of Section 571.213 is amended by revising S5.4.1 and S5.4.1.1, and by adding S5.4.1.2 and S5.4.1.3, to read as follows:

§ 571.213 Standard No. 213; Child restraint systems.

* * * * *

S5.4.1 Performance requirements.

S5.4.1.1 Child restraint systems manufactured before September 1, 2007. The webbing of belts provided with a child restraint system and used to attach the system to the vehicle or to restrain the child within the system shall—

(a) After being subjected to abrasion as specified in S5.1(d) or S5.3(c) of FMVSS 209 (§ 571.209), have a breaking strength of not less than 75 percent of the strength of the unabraded webbing when tested in accordance with S5.1(b) of FMVSS 209. A mass of 2.35 ± .05 kg shall be used in the test procedure in S5.1(d) of FMVSS 209 for webbing, including webbing used to secure a child restraint system to the tether and lower anchorages of a child restraint anchorage system, except that a mass of 1.5 +/−.05 kg shall be used for webbing in pelvic and upper torso restraints of a belt assembly used in a child restraint system. The mass is shown as (B) in Figure 2 of FMVSS 209.

(b) Meet the requirements of S4.2 (e) and (f) of FMVSS No. 209 (§ 571.209); and

(c) If contactable by the test dummy torso when the system is tested in accordance with S6.1, have a width of not less than 1½ inches when measured in accordance with S5.4.1.3.

S5.4.1.2 Child restraint systems manufactured on or after September 1, 2007. The webbing of belts provided with a child restraint system and used to attach the system to the vehicle or to restrain the child within the system shall—

(a) Have a minimum breaking strength for new webbing of not less than 15,000 N in the case of webbing used to secure a child restraint system to the vehicle, including the tether and lower anchorages of a child restraint anchorage system, and not less than 11,000 N in the case of the webbing used to secure a child to a child restraint system when tested in accordance with S5.1 of FMVSS No. 209. Each value shall be not less than the 15,000 N and 11,000 N applicable breaking strength requirements, but the median value shall be used for determining the retention of breaking strength in paragraphs (b)(1), (c)(1), and (c)(2) of this section S5.4.1.2. “New webbing” means webbing that has not been exposed to abrasion, light or micro-organisms as specified elsewhere in this section.

(b)(1) After being subjected to abrasion as specified in S5.1(d) or S5.3(c) of FMVSS 209 (§ 571.209), have a breaking strength of not less than 75 percent of the new webbing strength, when tested in accordance with S5.1(b) of FMVSS 209.

(2) A mass of 2.35 ± .05 kg shall be used in the test procedure in S5.1(d) of FMVSS 209 for webbing, including webbing to secure a child restraint system to the tether and lower anchorages of a child restraint anchorage system, except that a mass of 1.5 ± .05 kg shall be used for webbing in pelvic and upper torso restraints of a belt assembly used in a child restraint system. The mass is shown as (B) in Figure 2 of FMVSS 209.

(c)(1) After exposure to the light of a carbon arc and tested by the procedure specified in S5.1(e) of FMVSS 209 (§ 571.209), have a breaking strength of not less than 60 percent of the new webbing, and shall have a color retention not less than No. 2 on the Geometric Gray Scale published by the American Association of Textile Chemists and Colorists, Post Office Box 886, Durham, NC.

(2) After being subjected to micro-organisms and tested by the procedures specified in S5.1(f) of FMVSS 209 (§ 571.209), shall have a breaking strength not less than 85 percent of the new webbing.

(d) If contactable by the test dummy torso when the system is tested in accordance with S6.1, have a width of not less than 1½ inches when measured in accordance with S5.4.1.3.

S5.4.1.3 Width test procedure. Condition the webbing for 24 hours in an atmosphere of any relative humidity between 48 and 67 percent, and any ambient temperature between 70° and 77 °F. Measure belt webbing width under a tension of 5 pounds applied lengthwise.

* * * * *

Issued: May 31, 2006.
Jacqueline Glassman,
Deputy Administrator.

[FR Doc. E6-8727 Filed 6-6-06; 8:45 am]

BILLING CODE 4910-59-P